SUSQUEHANNA RIVER BASIN COMMISSION

Public Hearing

AGENCY: Susquehanna River Basin Commission.

ACTION: Supplement to notice.

SUMMARY: The Susquehanna River Basin Commission will hold a public hearing on November 5, 2020. Notice of that public hearing was published in the Federal Register on October 7, 2020. In addition to the items listed in that October 7, 2020 Notice, the Commission wishes to supplement that Notice to include additional items. The Commission will also hear testimony on a proposed Use of Lesser Quality Waters Policy as well as proposals to amend its Regulatory Program Fee Schedule. Due to the COVID-19 situation and the relevant orders in place in the Commission's member jurisdictions, the Commission will hold this hearing telephonically. At this public hearing, the Commission will hear testimony on the projects listed in the October 7, 2020 Notice and the proposals in the Supplementary Information section of this notice. Such projects and proposals are intended to be scheduled for Commission action at its next business meeting, tentatively scheduled for December 11, 2020, which will be noticed separately. The public should take note that this public hearing will be the only opportunity to offer oral comment to the Commission for the listed proposals. The deadline for the submission of written comments is November 18, 2020.

DATES: The public hearing will convene on November 5, 2020, at 2:30 p.m. The public hearing will end at 5:00 p.m. or at the conclusion of public testimony, whichever is sooner. The deadline for the submission of written comments is November 18, 2020.

ADDRESSES: This hearing will be held by telephone rather than at a physical location. Conference Call # 1-888-387-8686, the Conference Room Code #9179686050.

FOR FURTHER INFORMATION CONTACT: Jason Oyler, General Counsel and Secretary to the Commission, telephone: (717) 238-0423; fax: (717) 238-2436.

Information concerning the proposals discussed in this Notice can be found at the Commission's website at www.srbc.net. Additional supporting documents are available to inspect and copy in accordance with the Commission's Access to Records Policy atwww.srbc.net/regulatory/policies-guidance/docs/access-to-records-policy-2009-02.pdf.

SUPPLEMENTARY INFORMATION: The Commission is proposing a new Use of Lesser Quality Waters Policy that would replace its current policy. The Commission is also proposing changes to its Regulatory Program Fee Schedule, which it typically does on an annual basis. This Notice supplements the October 7, 2020 Notice of Public Hearing and the projects listed in that Notice remain a part of the public hearing.

Opportunity to Appear and Comment: Interested parties may call into the hearing to offer comments to the Commission on any business listed above required to be subject of a public hearing. Given the telephonic nature of the meeting, the Commission strongly encourages those members of the public wishing to provide oral comments to pre-register with the Commission by emailing Jason Oyler at joyler@srbc.net prior to the hearing date. The presiding officer reserves the right to limit oral statements in the interest of time and to otherwise control the course of the hearing. Access to the hearing via telephone will begin at 2:15 p.m. Guidelines for the public hearing are posted on the Commission's website, www.srbc.net, prior to the hearing for review. The presiding officer reserves the right to modify or supplement such guidelines at the hearing. Written comments on any business listed above required to be subject of a public hearing may also be mailed to Mr. Jason Oyler, Secretary to the Commission, Susquehanna River Basin Commission, 4423 North Front Street, Harrisburg, Pa. 17110-1788, or submitted electronically through https://www.srbc.net/regulatory/public-comment/. Comments mailed or electronically submitted must be received by the Commission on or before November 18, 2020, to be considered.

Authority: Pub. L. 91-575, 84 Stat. 1509 et seq., 18 CFR parts 806, 807, and 808.

Dated: October 15, 2020.
Jason E. Oyler,
General Counsel and Secretary to the Commission.

[FR Doc. 2020-23173 Filed 10-19-20; 8:45 am]

BILLING CODE 7040-01-P